DEPARTMENT OF ENERGY

Federal Energy Regulatory Commission

[Docket No. AD09-6-000]

Pipeline Siting and Stakeholder Involvement Workshop; Supplemental Notice of Pipeline Siting and Stakeholder Involvement Workshop

May 26, 2009.

On May 15, 2009, the Commission issued a notice scheduling a workshop in the above-captioned proceeding. In addition to the information provided in that notice, a free Webcast of the meeting/conference is available through http://www.ferc.gov. Anyone with Internet access who desires to listen to this event can do so by navigating to http://www.ferc.gov's Calendar of Events and locating this event in the Calendar. The event will contain a link to its Webcast. The Capitol Connection provides technical support for the Webcasts and offers the option of listening to the meeting via phone-bridge for a fee. If you have any questions, visit http://www.CapitolConnection.org or call 703-993-3100.

Kimberly D. Bose,
Secretary.

[FR Doc. E9-12703 Filed 6-1-09; 8:45 am]

BILLING CODE 6717-01-P